DEPARTMENT OF JUSTICE

Notice of Lodging of Proposed Consent Decree Under the Comprehensive Environmental Response, Compensation and Liability Act

On November 9, 2018, the Department of Justice lodged a proposed Consent Decree with the United States District Court for the District of South Carolina in the lawsuit entitled United States et al. v. Beazer East, Inc., Civil Action No. 2:18-cv-03051-DCN.

This case involves claims for natural resource damages under the Comprehensive Environmental Response, Compensation and Liability Act, 42 U.S.C. 9601 et seq., and related state law, stemming from contamination at the National Priorities List (“NPL”) Superfund site known as the Koppers Co., Inc. (Charleston Plant) NPL Site (the “Site”) in Charleston, South Carolina. The settlement resolves the alleged claims by required defendant to: (1) Implement an approximately 70 acre salt marsh wetlands restoration project; (2) pay $400,000 to the federal and state natural resource trustees (the “Trustees”) to fund an additional restoration project; (3) pay $390,000 to South Carolina Department of Natural Resources for injury to groundwater; and, (4) pay $1,000,000 to the Trustees for their costs of injury assessment.

The publication of this notice opens a period for public comment on the Consent Decree. Comments should be addressed to the Assistant Attorney General, Environment and Natural Resources Division, and should refer to United States et al. v. Beazer East, Inc., D.J. Ref. No. 90-11-2-08343. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $27.00 (25 cents per page reproduction cost) payable to the United States Treasury.

Henry Friedman,
Assistant Section Chief, Environmental Enforcement Section, Environment and Natural Resources Division.

[FR Doc. 2018-25110 Filed 11-16-18; 8:45 am]

BILLING CODE 4410-15-P